NATIONAL SCIENCE FOUNDATION

Special Emphasis Panel in Chemical and Transport System; Notice of Meeting

In accordance with the Federal Advisory Committee Act (Pub. L. 92-463, as amended), the National Science Foundation announces the following meeting.

Name: Special Emphasis Panel in Chemical and Transport System (1190).

Date and Time: April 2-3, 2000, 8:00 a.m. to 5:00 p.m.

Place: National Science Foundation, 4201 Wilson Boulevard, Room 330, Arlington, VA 22230.

Type of Meeting: Closed.

Contact Person: Farley Fisher, Program Director for the Combustion & Plasma Systems Program, Division of Chemical and Transport Systems (CTS), Room 525, (703) 306-1371.

Purpose of Meeting: To provide advice and recommendations concerning proposals submitted to NSF for financial support.

Agenda: To review and evaluate nominations for the FY 2000 Plasma & Science Engineering Panel proposals as part of the selection process for awards.

Reason for Closing: The proposals being reviewed include information of a proprietary or confidential nature, including, technical information; financial data, such as salaries and personal information concerning individuals associated with the proposals. These matters are exempt under 5 U.S.C. 552b(c) (4) and (6) of the Government in the Sunshine Act.

Dated: February 23, 2000.
Karen J. York,
Committee Management Office.

[FR Doc. 00-4717 Filed 2-28-00; 8:45 am]

BILLING CODE 7555-01-M